DEPARTMENT OF THE INTERIOR

National Park Service

Notice of Extension of Concession Contracts

AGENCY: National Park Service, Interior.

ACTION: Public Notice.

SUMMARY: Pursuant to 36 CFR 51.23, public notice is hereby given that the National Park Service proposes to extend the following expiring concession contracts for a period of up to one year, or until each time as a new contract is executed, whichever occurs sooner.

EFFECTIVE DATES: October 1, 2006.

FOR FURTHER INFORMATION CONTACT: Jo A. Pendry, Concession Program Manager, National Park Service, Washington, DC, 20240, Telephone 202/513-7156.

SUPPLEMENTARY INFORMATION: All of the listed concession authorizations will expire by their terms on or before September 30, 2006. The National Park Service has determined that the proposed short-term extensions are necessary in order to avoid interruption of visitor services and has taken all reasonable and appropriate steps to consider alternatives to avoid such interruption.

Concession

Contract number | Concessioner name | Park
GATE019-01 | Dover Gourmet Corporation | Gateway National Recreation Area.
INDE001-94 | City Tavern, Concepts by Staid, Ltd | Independence National Historical Park.
LARO003-92 | Colville Tribal Enterprise Corporation | Lake Roosevelt National Recreation Area.
STLI003-89 | ARAMARK Sports and Entertainment Services, Inc, | Statue of Liberty National Monument.

Dated: November 30, 2006.
John Wessels,
Acting Assistant Director, Business Services.

[FR Doc. 06-9660 Filed 12-13-06; 8:45 am]

BILLING CODE 4312-53-M